ENVIRONMENTAL PROTECTION AGENCY

[FRL-9974-94-OECA]

National Environmental Justice Advisory Council; Public Teleconference and Public Comment; Correction

AGENCY: Environmental Protection Agency (EPA).

ACTION: Notice; correction.

SUMMARY: The Environmental Protection Agency (EPA) published a document in the Federal Register of February 8, 2018, concerning the National Environmental Justice Advisory Council public teleconference and public comment period. The document contained an incorrect date.

FOR FURTHER INFORMATION CONTACT: Questions or correspondence concerning the public teleconference meeting should be directed to Karen L. Martin, U.S. Environmental Protection Agency, by mail at 1200 Pennsylvania Avenue NW (MC2201A), Washington, DC 20460; by telephone at 202-564-0203; via email at martin.karenl@epa.gov; or by fax at 202-564-1624. Additional information about the NEJAC is available at https://www.epa.gov/environmentaljustice/national-environmental-justice-advisory-council.

SUPPLEMENTARY INFORMATION:

Correction

In the Federal Register of February 8, 2018, in FR Doc. 2018-02549, in the third column, correct the “Registration” caption to read:

Registration

Registration for the March 8, 2018, pubic meeting teleconference option will be processed at https://nejac-public-teleconference-march-8-2018.eventbrite.com. Pre-registration is required. Registration for the March 8, 2018, public meeting teleconference closes at 11:59 p.m., Eastern Time on Monday, March 5, 2018. The deadline to sign up to speak during the public comment period, or to submit written public comments, is 11:59 p.m., Eastern Time on Monday, March 5, 2018. When registering, please provide your name, organization, city and state, email address, and telephone number for follow up. Please also indicate whether you would like to provide public comment during the meeting, and whether you are submitting written comments before the Monday, March 5, 2018, deadline.

Dated: February 15, 2018.
Matthew Tejada,
Designated Federal Officer, National Environmental Justice Advisory Council.

[FR Doc. 2018-04190 Filed 2-28-18; 8:45 am]

BILLING CODE 6560-50-P